DEPARTMENT OF ENERGY

President's Council of Advisors on Science and Technology Meeting

AGENCY: Office of Science, Department of Energy.

ACTION: Notice of open meeting.

SUMMARY: This notice sets forth the schedule and summary agenda for an open meeting of the President's Council of Advisors on Science and Technology (PCAST), and describes the functions of the Council. The Federal Advisory Committee Act (FACA) requires that public notice of these meetings be announced in the Federal Register.

DATES: November 18, 2019; 9:15 a.m. to 6:00 p.m.

ADDRESSES: The meeting will be held at the National Academy of Sciences (in the Lecture Room), 2101 Constitution Avenue NW, Washington, DC.

FOR FURTHER INFORMATION CONTACT: This PCAST meeting will occur on Monday, November 18, 2019, from 9:15 a.m.-6:00 p.m., at the National Academies of Science. Individuals from the public who wish to attend must register using the following email address: PCAST@ostp.eop.gov. Questions about the meeting should be directed to Edward McGinnis, Executive Director, PCAST, (202) 456-6076, or PCAST@ostp.eop.gov. Please note that public seating for this meeting is limited and is available on a first-come, first-served basis.

SUPPLEMENTARY INFORMATION: PCAST is an advisory group of the nation's leading scientists and engineers, appointed by the President to augment the science and technology advice available to him from inside the White House, cabinet departments, and other Federal agencies. See the Executive Order at whitehouse.gov. PCAST is consulted about and provides analyses and recommendations concerning a wide range of issues where understandings from the domains of science, technology, and innovation may bear on the policy choices before the President. PCAST is chaired by Dr. Kelvin Droegemeier, Director, Office of Science and Technology Policy, Executive Office of the President, The White House.

Type of Meeting: Open.

Tentative Schedule and Agenda: During this open meeting, PCAST is scheduled to discuss the identification of science and technology issues that PCAST members will address and also discuss setting priorities.

Public Comments: It is the policy of the PCAST to accept written public comments no longer than 20 pages and to accommodate oral public comments whenever possible. The PCAST expects that public statements presented at its meetings will not be repetitive of previously submitted oral or written statements. The Chair is empowered to conduct the meeting in a fashion that will facilitate the orderly conduct of business.

The public comment period for this meeting will take place on November 18, 2019, at a time specified in the meeting agenda. This public comment period is designed only for substantive commentary on PCAST's work, not for business marketing purposes.

Oral Comments: To be considered for the public speaker list at the meeting, interested parties should register to speak at PCAST@ostp.eop.gov, no later than 9:00 a.m. Eastern Time on November 12, 2019. Phone reservations will not be accepted. To accommodate as many speakers as possible, the time for public comments will be limited to two (2) minutes per person, with a total public comment period of up to 15 minutes. If more speakers register than there is space available on the agenda, PCAST will select speakers on a first-come, first-served basis from those who applied. Those not selected to present oral comments may always file written comments with the committee. Speakers are requested to bring at least 25 copies of their oral comments for distribution to the PCAST members.

Written Comments: Although written comments are accepted continuously, written comments should be submitted to PCAST@ostp.eop.gov no later than 12:00 p.m. Eastern Time on November 12, 2019, so that the comments may be made available to the PCAST members prior to this meeting for their consideration.

Please note that because PCAST operates under the provisions of FACA, all public comments and/or presentations will be treated as public documents and will be made available for public inspection, including being posted on the PCAST website.

Meeting Accommodations: Individuals requiring special accommodation to access this public meeting should email PCAST@ostp.eop.gov at least ten business days prior to the meeting so that appropriate arrangements can be made.

Minutes: Minutes will be available within 45 days by emailing PCAST@ostp.eop.gov.

Signed in Washington, DC, on October 24, 2019.
LaTanya Butler,
Deputy Committee Management Officer.

[FR Doc. 2019-23624 Filed 10-29-19; 8:45 am]

BILLING CODE 6450-01-P